DEPARTMENT OF HEALTH AND HUMAN SERVICES

Centers for Disease Control and Prevention

[Program Announcement 01089]

Grant for Childhood Injury Prevention Program in Alaska; Notice of Availability of Funds

A. Purpose

The Centers for Disease Control and Prevention (CDC) announces the availability of fiscal year (FY) 2001 funds for a grant for a Childhood Injury Prevention Program in Alaska. This program addresses the “Healthy People 2010” focus area of Injury and Violence Prevention. The purpose of this program is to reduce injuries among Alaskan children.

B. Eligible Applicant

Assistance will be provided only to the Alaska Injury Prevention Center (AIPC). FY 2001 federal appropriations specifically directs CDC to award funds to this organization. No other applications are solicited.

Note: Title 2 of the United States Code, chapter 26, section 1611 states that an organization described in section 501(c)(4) of the Internal Revenue Code of 1986 that engages in lobbying activities is not eligible to receive Federal funds constituting an award, grant, cooperative agreement, contract, loan, or any other form.

C. Availability of Funds

Approximately $700,000 is available in FY 2001 to fund one award. It is expected that the award will begin on or about September 30, 2001, and will be made for a 12-month budget and project period. Approximately $470,000 of this total is available for a statewide childhood injury prevention program in Alaska. Approximately $230,000 of this total is available for collaboration with the State of Alaska Department of Health and Social Services.

D. Where to Obtain Additional Information

This and other CDC announcements can be found on the CDC home page Internet address—http://www.cdc.gov. Click on “Funding” then “Grants and Cooperative Agreements.” If you have questions after reviewing the content of all the documents, business management and assistance may be obtained from:Ty Weaver, Grants Management Specialist,Grants Management Branch, Procurement and Grants Office,Announcement 01089,Centers for Disease Control and Prevention (CDC),2920 Brandywine Road, Suite 3000, Mailstop E13,Atlanta, GA 30341-4146,Telephone: (770) 488-2710,Email address: tmw9@cdc.gov

For program technical assistance, contact:Tim Groza,Centers for Disease Control and Prevention,National Center for Injury Prevention and Control 4770 Buford Highway N.E., Mailstop K63,Atlanta, GA 30341-3724,Telephone: (770) 488-4676,Email: tgroza@cdc.gov

Dated: May 1, 2001.
John L. Williams,
Director, Procurement and Grants Office, Centers for Disease Control and Prevention (CDC).

[FR Doc. 01-11380 Filed 5-4-01; 8:45 am]

BILLING CODE 4163-18-P